ENVIRONMENTAL PROTECTION AGENCY

[EPA-HQ-OPPT-2014-0486; FRL-9915-17]

Agency Information Collection Activities; Proposed Renewal and Consolidation of Several Currently Approved Collections; Comment Request

AGENCY: Environmental Protection Agency (EPA).

ACTION: Notice.

SUMMARY: In compliance with the Paperwork Reduction Act (PRA), this document announces that EPA is planning to submit a request to renew and consolidate three currently approved Information Collection Requests (ICRs) to the Office of Management and Budget (OMB). The consolidated ICR is entitled: “Lead Training, Certification, Accreditation and Authorization Activities” and identified by (EPA ICR No. 2507.01 and OMB Control No. 2070-(NEW)). This new ICR consolidates the following three ICRs, whose existing approval EPA is seeking to renew in order to allow for the consolidated ICR to complete the PRA process: “Lead-Based Paint Pre-Renovation Information Dissemination—TSCA Sec. 406(b)” (EPA ICR No. 1669.06, OMB Control No. 2070-0158; scheduled to expire on April 30, 2015); “TSCA Section 402 and Section 404 Training and Certification, Accreditation and Standards for Lead-Based Paint Activities and Renovation, Repair, and Painting” (EPA ICR No. 1715.13, OMB Control No. 2070-0155; scheduled to expire on December 31, 2015); and “Lead; Clearance and Clearance Testing Requirements for the Renovation, Repair, and Painting Program” (EPA ICR No. 2381.02, OMB Control No. 2070-0181; scheduled to expire on April 30, 2015). Before submitting these ICRs to OMB for review and approval under the PRA, EPA is required to solicit comments on specific aspects of the information collections. Please note that the three ICR renewals are exactly the same as the ICRs that are currently approved. The Agency has not made any changes to these renewal ICRs because the covered activities are being consolidated, along with the estimated burdens, into the consolidated ICR.

DATES: Comments must be received on or before February 27, 2015.

ADDRESSES: Submit your comments, identified by docket identification (ID) number EPA-HQ-OPPT-2014-0486, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Hans Scheifele, National Program Chemicals Division, (7404-T), Office of Pollution Prevention and Toxics, Environmental Protection Agency, 1200 Pennsylvania Ave. NW., Washington, DC 20460-0001; telephone number: (202) 564-3122; email address: scheifele.hans@epa.gov.

For general information contact: The TSCA-Hotline, ABVI-Goodwill, 422 South Clinton Ave., Rochester, NY 14620; telephone number: (202) 554-1404; email address: TSCA-Hotline@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Submit your comments by the deadline identified under DATES.

6. Identify the docket ID number assigned to the ICR in the subject line on the first page of your response. You may also provide the ICR title and related EPA and OMB numbers.

III. What do I need to know about PRA?

An Agency may not conduct or sponsor, and a person is not required to respond to, a collection of information subject to PRA approval unless it displays a currently valid OMB control number. The OMB control numbers for the EPA regulations in title 40 of the Code of Federal Regulations (CFR), after appearing in the preamble of the final rule, are further displayed either by publication in the Federal Register or by other appropriate means, such as on the related collection instruments or form, if applicable. The display of OMB control numbers for certain EPA regulations is consolidated in a list at 40 CFR 9.1.

As used in the PRA context, burden is defined in 5 CFR 1320.3(b).

IV. What ICRs does this request apply to?

A. New Consolidated ICR

Title: Lead Training, Certification, Accreditation and Authorization Activities.

ICR numbers: EPA ICR No. 2507.01; OMB Control No. 2070-(NEW).

ICR status: This is a new ICR that reflects the consolidation of the three ICRs identified in unit IV.B.

Abstract: This information collection involves third-party notification, required under section 406(b) of the Toxic Substances Control Act (TSCA), to owners and occupants of housing that will inform such individuals about the dangers of lead-contaminated dust and lead-based paint debris that are sometimes generated during renovations of housing where lead-based paint is present, thereby aiding them in avoiding potentially hazardous exposures and protecting public health. Since young children are especially susceptible to the hazards of lead, owners and occupants with children can take action to protect their children from lead poisonings. Section 406(b) of TSCA requires EPA to promulgate regulations requiring certain persons who perform renovations for compensation on target housing to provide a lead hazard information pamphlet (developed under TSCA section 406(a)) to the owner and occupants of such housing prior to beginning the renovation. Further, the firm performing the renovation must keep records acknowledging receipt of the pamphlet on file for 3 years after completion of work. Those who fail to provide the pamphlet or keep records as required may be subject to both civil and criminal sanctions.

This information collection also addresses the reporting and recordkeeping requirements for individuals or firms conducting lead-based paint activities or renovation in or on houses, apartments, or child-occupied facilities built before 1978, under the authority of sections 402 and 404 of TSCA. These sections and their implementing regulations require EPA to develop and administer a training and certification program as well as work practice standards for persons who perform lead-based paint activities and/or renovations. 40 CFR part 745, subpart E, covers work practice standards, recordkeeping and reporting requirements, individual and firm certification, and enforcement for renovations done in target housing or child-occupied facilities. 40 CFR part 745, subpart L, covers inspections, lead hazard screens, risk assessments, and abatement activities (referred to as “lead-based paint activities”) done in target housing and child-occupied facilities. 40 CFR part 745, subpart Q, establishes the requirements that state or tribal programs must meet for authorization to administer the standards, regulations, or other requirements established under TSCA section 402. Section 401 of TSCA defines target housing as any housing constructed before 1978 except housing for the elderly or disabled or 0-bedroom dwellings.

Responses to the collection of information are mandatory (see 40 CFR part 745). Respondents may claim all or part of a document confidential. EPA will disclose information that is covered by a claim of confidentiality only to the extent permitted by, and in accordance with, the procedures in TSCA section 14 and 40 CFR part 2. The consolidated ICR, a copy of which is available in the docket, provides a detailed explanation of this estimate, which is only briefly summarized here.

Burden statement: The annual public reporting and recordkeeping burden for this collection of information is estimated to range between 0.2 hours per response and 10.2 hours per response, depending upon the nature of the respondent.

Respondents/Affected entities: Entities potentially affected by this ICR include persons who are engaged in lead-based paint activities and/or perform renovations of target housing or child-occupied facilities for compensation, dust sampling, or dust testing; or who perform lead-based paint inspections, lead hazard screens, risk assessments or abatements in target housing or child-occupied facilities; or who provide training or operate a training program for individuals who perform any of these activities; or state, territorial or Native American agencies that administer lead-based paint activities and/or renovation programs.

Estimated total number of potential respondents: 588,357.

Frequency of response: On occasion.

Estimated total average number of responses for each respondent: 46.3.

Estimated total annual burden hours: 5,585,213 hours.

Estimated total annual costs: $277,147,047. This includes an estimated cost of $0 for capital investment or maintenance and operational costs.

B. Renewal of Existing ICRs

EPA intends to seek the renewal of the existing approvals for the following three ICRs in order to provide sufficient time to allow for the consolidated ICR to complete the PRA process. The three ICR renewals are exactly the same as the ICRs that are currently approved. The Agency has not made any changes to these renewal ICRs because the covered activities and related burdens are being consolidated into the new ICR described in Unit IV.A.

1. Renewal under OMB Control No. 2070-0158.

Title: Lead-Based Paint Pre-Renovation Information Dissemination—TSCA Sec. 406(b).

ICR numbers: EPA ICR No. 1669.07; OMB Control No. 2070-0158.

ICR status: This ICR is scheduled to expire on April 30, 2015. Under OMB regulations, the Agency may continue to conduct or sponsor the collection of information while this renewal submission is pending at OMB.

Abstract: This ICR involves third-party notification to owners and occupants of housing that will inform such individuals about the dangers of lead-contaminated dust and lead-based paint debris that are sometimes generated during renovations of housing where lead-based paint is present, thereby aiding them in avoiding potentially hazardous exposures and protecting public health. Since young children are especially susceptible to the hazards of lead, owners and occupants with children can take action to protect their children from lead poisonings. Section 406(b) of TSCA requires EPA to promulgate regulations requiring certain persons who perform renovations for compensation on target housing to provide a lead hazard information pamphlet (developed under TSCA section 406(a)) to the owner and occupants of such housing prior to beginning the renovation. Further, the firm performing the renovation must keep records acknowledging receipt of the pamphlet on file for 3 years after completion of work. Those who fail to provide the pamphlet or keep records as required may be subject to both civil and criminal sanctions.

Responses to the collection of information are mandatory (see 40 CFR 745, subpart E). Respondents may claim all or part of a notice as CBI. EPA will disclose information that is covered by a CBI claim only to the extent permitted by, and in accordance with, the procedures in 40 CFR part 2.

Burden statement: The annual public reporting and recordkeeping burden for this collection of information is estimated to average about 0.23 hours per response. The ICR, a copy of which is available in the docket, provides a detailed explanation of this estimate, which is only briefly summarized here.

Respondents/Affected entities: Entities potentially affected by this action are certain persons performing renovations of target housing, constructed prior to 1978, for compensation.

Estimated total number of potential respondents: 320,504.

Frequency of response: On occasion.

Estimated total average number of responses for each respondent: 35.4.

Estimated total annual burden hours: 2,577,280 hours.

Estimated total annual costs: $140,498,539. This includes an estimated cost of $0 for capital investment or maintenance and operational costs.

2. Renewal under OMB Control No. 2070-0155.

Title: TSCA Section 402 and Section 404 Training and Certification, Accreditation and Standards for Lead-Based Paint Activities and Renovation, Repair, and Painting.

ICR numbers: EPA ICR No. 1715.14; OMB Control No. 2070-0155.

ICR status: This ICR is scheduled to expire on December 31, 2015. Under OMB regulations, the Agency may continue to conduct or sponsor the collection of information while this renewal submission is pending at OMB.

Abstract: This ICR covers the reporting and recordkeeping requirements for individuals or firms conducting lead-based paint activities or renovation in or on houses, apartments, or child-occupied facilities built before 1978, under the authority of TSCA sections 402 and 404 (15 U.S.C. 2682, 2684).

Sections 402(a) and 402(c)(3) of TSCA require EPA to develop and administer a training and certification program as well as work practice standards for persons who perform lead-based paint activities and/or renovations. The current regulations in 40 CFR part 745, subpart E, cover work practice standards, recordkeeping and reporting requirements, individual and firm certification, and enforcement for renovations done in target housing or child-occupied facilities. The current regulations in 40 CFR part 745, subpart L, cover inspections, lead hazard screens, risk assessments, and abatement activities (referred to as “lead-based paint activities”) done in target housing and child-occupied facilities. The current regulations in 40 CFR part 745, subpart Q, establish the requirements that state or tribal programs must meet for authorization to administer the standards, regulations, or other requirements established under TSCA section 402. (see 40 CFR part 745, subparts E, L and Q.) Section 401 of TSCA defines target housing as any housing constructed before 1978 except housing for the elderly or disabled or 0-bedroom dwellings.

Sections 402(a) and 402(c)(3) of TSCA require reporting and/or recordkeeping from four entities: Firms engaged in lead-based paint activities or renovations in target housing and child-occupied facilities; individuals who perform lead-based paint activities in target housing and child-occupied facilities; training providers; and states/territories/tribes/Alaskan native villages. This information collection applies to the reporting and recordkeeping requirements outlined above.

Responses to the collection of information are mandatory (see 40 CFR part 745, subparts E, L and Q). Respondents may claim all or part of a notice as CBI. EPA will disclose information that is covered by a CBI claim only to the extent permitted by, and in accordance with, the procedures in 40 CFR part 2.

Burden statement: The annual public reporting and recordkeeping burden for this collection of information is estimated to average 0.8 hours for individuals, 9.9 hours for firms, and 5.8 hours for governments per response. The ICR, a copy of which is available in the docket, provides a detailed explanation of this estimate, which is only briefly summarized here.

Respondents/Affected entities: Entities potentially affected by this ICR are persons who provide training in lead-based paint activities and/or renovation, persons who are engaged in lead-based paint activities and/or renovation, and state agencies that administer lead-based paint activities and/or renovation programs.

Estimated total number of potential respondents: 367,815.

Frequency of response: Annual.

Estimated total average number of responses for each respondent: Varies.

Estimated total annual burden hours: 3,312,524 hours.

Estimated total annual costs: $151,077,143. This includes an estimated cost of $0 for capital investment or maintenance and operational costs.

3. Renewal under OMB Control No. 2070-0181.

Title: Lead; Clearance and Clearance Testing Requirements for the Renovation, Repair, and Painting Program.

ICR numbers: EPA ICR No. 2381.03; OMB Control No. 2070-0181.

ICR status: This ICR is scheduled to expire on April 30, 2015. Under OMB regulations, the Agency may continue to conduct or sponsor the collection of information while this renewal submission is pending at OMB.

Abstract: This ICR covers revisions to the 2008 Renovation, Repair, and Painting (RRP) rule which established reporting and recordkeeping requirements for individuals and firms conducting renovations in target housing, which is most housing constructed before 1978, and child-occupied facilities, which are pre-1978 residential, public, or commercial buildings where children under 6 are regularly present. EPA is revising the RRP rule under the authority of TSCA sections 402, 404 and 407.

Burden statement: The annual public reporting and recordkeeping burden for this collection of information is estimated to average 0.9 hours for training providers. The ICR, a copy of which is available in the docket, provides a detailed explanation of this estimate, which is only briefly summarized here.

Respondents/Affected entities: Entities potentially affected by this ICR include training programs providing training services in lead-based paint activities and renovations.

Estimated total number of potential respondents: 170.

Frequency of response: On occasion.

Estimated total average number of responses for each respondent: 89.

Estimated total annual burden hours: 151 hours.

Estimated total annual costs: $27. This includes an estimated cost of $0 for capital investment or maintenance and operational costs.

V. Are there changes in the estimates from the last approvals?

The Agency has not made any changes to the three ICRs that are currently approved and whose renewal is being sought because changes to the information collection activities and burdens and adjusted estimates are in the consolidated ICR. Once consolidated, the new ICR is expected to reflect an overall decrease of 677,579 hours in the total estimated combined respondent burden that is currently approved by OMB. This decrease reflects changes in EPA's estimates of the burden including: Revisions to the estimated number of respondents based on the number of respondents reporting to EPA for the prior information collection; the fact the housing market and related industries including housing rentals, property management and building renovation have yet to recover from the drop in the housing market; and the use of actual certification data instead of broader assumptions about industry behavior. Further details about these changes are included in the supporting statement for the new consolidated ICR. This change is an adjustment.

VI. What is the next step in the process for this ICR?

EPA will consider the comments received and amend the consolidated ICR as appropriate. The final ICR packages will then be submitted to OMB for review and approval pursuant to 5 CFR 1320.12. EPA will issue another Federal Register document pursuant to 5 CFR 1320.5(a)(1)(iv) to announce the submission of the ICR to OMB and the opportunity for the public to submit additional comments for OMB consideration.

If you have any questions about this ICR or the approval process, please contact the technical person listed under FOR FURTHER INFORMATION CONTACT.

Authority: 44 U.S.C. 3501 et seq.

Dated: November 13, 2014.
James Jones,
Assistant Administrator, Office of Chemical Safety and Pollution Prevention.

[FR Doc. 2014-30412 Filed 12-24-14; 8:45 am]

BILLING CODE 6560-50-P